DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting via web conference on Wednesday, November 15, 2023, from 10:00 a.m.-1:00 p.m. Eastern time. The primary purpose of this meeting is for the Committee to share and discuss updates on each working group's goals and deliverables, including those of the NAIAC Law Enforcement Subcommittee. The Committee will also deliberate on draft findings and recommendations. The final agenda will be posted to the NAIAC website: ai.gov/naiac/.

DATES: The meeting will be held on Wednesday, November 15, 2023, from 10:00 a.m.-1:00 p.m. Eastern time.

ADDRESSES: The meeting will be held via web conference. For instructions on how to attend and/or participate in the meeting, please see the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333. Please direct any inquiries to naiac@nist.gov.

SUPPLEMENTARY INFORMATION: Pursuant to the Federal Advisory Committee Act, as amended, 5 U.S.C 1001 et seq., notice is hereby given that the NAIAC will meet on Wednesday, November 15, 2023, from 10:00 a.m.-1:00 p.m. Eastern time. The meeting will be open to the public and will be held via web conference. The primary purpose of this meeting is for the Committee to share and discuss updates on each working group's goals and deliverables, including those of the NAIAC Law Enforcement Subcommittee. The Committee will also deliberate on draft findings and recommendations. The final agenda will be posted to the NAIAC website: ai.gov/naiac/.

The NAIAC is authorized by Section 5104 of the National Artificial Intelligence Initiative Act of 2020 (Pub. L. 116-283, Div. E), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

Comments: Individuals and representatives of organizations who would like to offer comments and suggestions related to items on the Committee's agenda for this meeting are invited to submit comments in advance of the meeting. Approximately ten minutes will be reserved for public comments, which will be read on a first-come, first-served basis. Please note that all comments submitted via email will be treated as public documents and will be made available for public inspection. All comments must be submitted via email with the subject line “November 15, 2023, NAIAC Meeting Comments” to naiac@nist.gov by 5:00 p.m. Eastern Time, Tuesday, November 14, 2023.

Virtual Admittance Instructions: The meeting will be broadcast via web conference. Registration is required to view the web conference. Instructions to register will be made available on ai.gov/naiac/#MEETINGS. Registration will remain open until the conclusion of the meeting.

Alicia Chambers,
NIST Executive Secretariat.

[FR Doc. 2023-24045 Filed 10-31-23; 8:45 am]

BILLING CODE 3510-13-P